DEPARTMENT OF AGRICULTURE

Food and Nutrition Service

Agency Information Collection Activities: Proposed Collection; Comment Request—Information Collection for the Child and Adult Care Food Program (CACFP)

AGENCY: Food and Nutrition Service (FNS), USDA.

ACTION: Notice.

SUMMARY: In accordance with the Paperwork Reduction Act of 1995, this notice invites the general public and other public agencies to comment on this proposed information collection. This collection is a reinstatement, with change, of a previously approved collection for which approval has expired. FNS uses this collection to obtain account and record information from State and service institutions that is necessary to effectively manage the CACFP and ensure compliance with statutory and regulatory Program requirements.

DATES: Written comments must be received on or before May 24, 2021.

ADDRESSES: Comments may be sent to Laura Roth, Community Meals Branch, Policy and Program Development Division, Child Nutrition Programs, Food and Nutrition Service, U.S. Department of Agriculture, 1320 Braddock Place, Alexandria, VA 22314. Comments may also be submitted via fax to the attention of Laura Roth at 703-305-6294 or via email to Laura.Roth@usda.gov. Comments will also be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Laura Roth, Community Meals Branch, Policy and Program Development Division, Child Nutrition Programs, Food and Nutrition Service, U.S. Department of Agriculture, via email to Laura.Roth@usda.gov or by phone at 703-605-2590.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 226, Child and Adult Care Food Program (CACFP).

Form Number: None.

OMB Number: 0584-0055.

Expiration Date: February 29, 2020.

Type of Request: Reinstatement, with change, of a previously approved collection for which approval has expired.

Abstract: This is a reinstatement, with change, of a previously approved information collection that expired on February 29, 2020. Section 17 of the Richard B. Russell National School Lunch Act (NSLA), as amended, (42 U.S.C. 1766), authorizes the CACFP. Under this Program, the Secretary of Agriculture is authorized to provide cash reimbursement and commodity assistance, on a per meal basis, for food service to children in nonresidential child care centers and family or group day care homes, and to eligible adults in nonresidential adult day care centers. The U.S. Department of Agriculture (USDA), through the Food and Nutrition Service (FNS), has established application, monitoring, and reporting requirements to manage the CACFP effectively. The purpose of this submission to OMB is to obtain approval to reinstate the discussed information collection. States and service institutions participating in the CACFP will submit to FNS account and record information reflecting their efforts to comply with statutory and regulatory Program requirements. Examples of data collected and reported with this collection include, but are not limited to: Applications and supporting documents; records of enrollment; records supporting the free and reduced price eligibility determinations; daily records indicating numbers of program participants in attendance and the number of meals served by type and category; and receipts, invoices and other records of CACFP costs and documentation of non-profit operation of food service.

FNS published an initial 60-day notice to renew this information collection on December 26, 2019 (84 FR 70930). The public comment period ended on February 24, 2020. In the process of preparing the initial 60-day notice, FNS adjusted reporting and recordkeeping burden because of decreases in the number of sponsoring organizations and facilities, and an increase in the number of enrolled participants who are required to submit information. To ensure that the information collection request (ICR) adequately represented the reporting burden associated with operating CACFP, FNS included the requirement that State agencies must comply with policy, instructions, guidance, and handbooks issued by USDA. Similarly, FNS also added the burden hours associated with reviewing materials to comply with all regulations issued by USDA for institutions. In the past, reviewing policy, instructions, guidance, and handbooks were burden implied with implementing CACFP, however, it was not included in the burden table. Adding the hours it would take to review materials is important because it allows USDA to capture the burden of operating CACFP. FNS also separated out burden associated with the serious deficiency process for new, renewing, and participating institutions. Finally, FNS included the reporting burden for State agencies and institutions associated with submitting documents of corrective action and other records related to operating the program such as administrative budget, notice of proposed suspension, and notice of corrective actions.

In addition to revising reporting and recordkeeping burden, FNS added public disclosure burden associated with public notification requirements, which have been a part of the CACFP regulations but were not included in the burden estimates for the previously approved information collection. FNS included public disclosure burden for State agencies per policy guidance, which allows State agencies to issue media releases on behalf of the institutions. Public disclosure burden hours for State agencies were not captured in the past. However, through feedback from State agencies, FNS adjusted the burden hours because FNS learned that many State agencies issue a public notice on behalf of their institutions.

In response to the first Federal Register Notice, FNS received 49 comments. Based on comments received, FNS further revised the burden associated with the information collection. In particular, FNS modified the burden of some of its reporting and recordkeeping requirements to better account for the complexity of certain activities applicable to State agencies. These requirements include:

• List of schools in which one-half of children enrolled are eligible for free or reduced-price meals (7 CFR 226.6(f)(1)(ix)(A)): For this reporting activity, FNS increased the estimated average number of hours per response from 15 minutes (0.25 hours) to 2 hours.

• Standard institutions and food service management company contract (7 CFR 226.6(i)): For this reporting activity FNS increased the estimated average number of hours per response from 15 minutes (0.25 hours) to 1 hour.

• Sponsoring organization agreement (7 CFR 226.6(p)): For this reporting activity, FNS increased the estimated average number of hours per response from 15 minutes (0.25 hours) to 6 hours.

• Collect and maintain on file CACFP agreements (Federal/State and State/institutions), records received from applicant and participating institutions, National Disqualified List/State Agency Lists, and documentation of administrative review (appeals), and Program assistance activities, results, and corrective actions (7 CFR 226.6). For this recordkeeping activity, FNS increased the estimated average number of hours per record from 1 hour to 5 hours.

In addition, FNS included burden for a set of existing requirements applicable to State agencies, local government agencies, and businesses (institutions and facilities) that were not delineated in previous burden tables. These requirements include:

• Application procedures for new institutions (7 CFR 226.6(b)(1)): Under this reporting requirement, 56 State agencies will each implement application procedures for 5 new institutions. Thus, the information collection activities associated with this requirement result in 280 responses for State agencies. FNS estimates that it takes State agencies approximately 1 hour per response, resulting in 280 burden hours. This change to the burden reflects an increase of 280 total annual responses and 280 total annual burden hours for States agencies.

• Application procedures for renewing institutions (7 CFR 226.6(b)(2)): Under this reporting requirement, 56 State agencies will each implement application procedures for 390 renewing institutions. Thus, the information collection activities associated with this requirement result in 21,840 responses for State agencies. FNS estimates that it takes State agencies approximately 30 minutes (0.5 hours) per response, resulting in 10,920 burden hours. This change to the burden reflects an increase of 21,840 total annual responses and 10,920 total annual burden hours for States agencies.

• State/institution agreement (7 CFR 226.6(b)(4)): Under this reporting requirement, 56 State agencies will each develop 5 written agreements between the State agency and the institutions that have been approved for participation in the Program. Thus, the information collection activities associated with this requirement result in 280 responses for State agencies. FNS estimates that it takes State agencies approximately 30 minutes (0.5 hours) per response, resulting in 140 burden hours. This change to the burden reflects an increase of 280 total annual responses and 140 total annual burden hours for States agencies. FNS also estimates that 42 local government agencies will each complete 1 application. Thus, the information collection activities associated with this requirement result in 42 responses for local government agencies. FNS estimates that it takes local government agencies approximately 30 minutes (0.5 hours) per response, resulting in 21 burden hours. This change to the burden reflects an increase of 42 total annual responses and 21 total annual burden hours for local government agencies. Finally, FNS estimates that 238 institutions will each complete 1 application. Thus, the information collection activities associated with this requirement result in 238 responses for institutions. FNS estimates that it takes institutions approximately 30 minutes (0.5 hours) per response, resulting in 119 burden hours. This change to the burden reflects an increase of 238 total annual responses and 119 total annual burden hours for institutions.

• Agreement termination for seriously deficient and subsequently disqualified institutions (7 CFR 226.6(c)(6)(ii)(G)): Under this reporting requirement, 56 State agencies will each terminate 3 agreements with institutions that FNS determines to be seriously deficient and subsequently disqualifies. Thus, the information collection activities associated with this requirement result in 168 responses for State agencies. FNS estimates that it takes State agencies approximately 15 minutes (0.25 hours) per response, resulting in 42 burden hours. This change to the burden reflects an increase of 168 total annual responses and 42 total annual burden hours for States agencies.

• List of schools in the State in which at least one-half of the children enrolled are certified eligible to receive free or reduced-price meals (7 CFR 2226.6(e)(1)(ix)(A)): Under this reporting requirement, 56 State agencies will each coordinate with the National School Lunch Program State agency to ensure the receipt of a list of schools in the State in which at least one-half of the children enrolled are certified eligible to receive free or reduced-price meals. Thus, the information collection activities associated with this requirement result in 56 responses for State agencies. FNS estimates that it takes State agencies approximately 30 minutes (0.5 hours) per response, resulting in 28 burden hours. This change to the burden reflects an increase of 56 total annual responses and 28 total annual burden hours for States agencies.

• Responsibility to ensure that free and reduced-price meals are served to participants unable to pay the full price (7 CFR 226.6(f)(1)(i)): Under this reporting requirement, 56 State agencies will each inform institutions that are pricing programs of their responsibility to ensure that free and reduced-price meals are served to participants unable to pay the full price. Thus, the information collection activities associated with this requirement result in 56 responses for State agencies. FNS estimates that it takes State agencies approximately 15 minutes (0.25 hours) per response, resulting in 14 burden hours. This change to the burden reflects an increase of 56 total annual responses and 14 total annual burden hours for States agencies.

• Administrative review (appeal) request notice (7 CFR 226.6(k)(5)(i)): Under this reporting requirement, 56 State agencies will each send 3 notices of the action being taken or proposed, the basis for the action, and the procedures under which an institution and the responsible principals or responsible individuals may request an administrative review (appeal) of the action. Thus, the information collection activities associated with this requirement result in 168 responses for State agencies. FNS estimates that it takes State agencies approximately 15 minutes (0.25 hours) per response, resulting in 42 burden hours. This change to the burden reflects an increase of 168 total annual responses and 42 total annual burden hours for States agencies.

• Acknowledge the receipt of the request for an administrative review (appeal) (7 CFR 226.6(k)(5)(ii)): Under this reporting requirement, 56 State agencies will each acknowledge the receipt of 3 requests for an administrative review (appeal). Thus, the information collection activities associated with this requirement result in 168 responses for State agencies. FNS estimates that it takes State agencies approximately 5 minutes (0.0835 hours) per response, resulting in 14 burden hours. This change to the burden reflects an increase of 168 total annual responses and 14 total annual burden hours for States agencies.

• Review documentation submitted to refute the findings contained in the notice of action (7 CFR 226.6(k)(5)(v)): Under this reporting requirement, 56 State agencies will each review 3 sets of documentation submitted to refute the findings contained in the notice of action. Thus, the information collection activities associated with this requirement result in 168 responses for State agencies. FNS estimates that it takes State agencies approximately 2 hours per response, resulting in 336 burden hours. This change to the burden reflects an increase of 168 total annual responses and 336 total annual burden hours for States agencies.

• Hold administrative review hearing (7 CFR 226.6(k)(5)(vi)): Under this reporting requirement, 56 State agencies will each hold 3 administrative review hearings. Thus, the information collection activities associated with this requirement result in 168 responses for State agencies. FNS estimates that it takes State agencies approximately 4 hours per response, resulting in 672 burden hours. This change to the burden reflects an increase of 168 total annual responses and 672 total annual burden hours for States agencies.

• Inform of the administrative review's outcome (7 CFR 226.6(k)(5)(ix) and 226.6(k)(9)): Under this reporting requirement, 56 State agencies will each inform 3 institutions of the administrative review's outcome within 60 days of the State agency's receipt of the request for an administrative review. Thus, the information collection activities associated with this requirement result in 168 responses for State agencies. FNS estimates that it takes State agencies approximately 30 minutes (0.5 hours) per response, resulting in 84 burden hours. This change to the burden reflects an increase of 168 total annual responses and 84 total annual burden hours for States agencies.

• Review at least 33.3 percent of all institutions (7 CFR 226.6(m)(6)): Under this reporting requirement, 56 State agencies will each review 129 institutions. Thus, the information collection activities associated with this requirement result in 7,224 responses for State agencies. FNS estimates that it takes State agencies approximately 20 hours per response, resulting in 144,480 burden hours. This change to the burden reflects an increase of 129 total annual responses and 144,480 total annual burden hours for States agencies.

• Provide information on the Special Supplemental Nutrition Program for Women, Infants, and Children (WIC) to participating institutions (7 CFR 226.6(r)): Under this reporting requirement, 56 State agencies will each provide participating institutions information on WIC. Thus, the information collection activities associated with this requirement result in 56 responses for State agencies. FNS estimates that it takes State agencies approximately 15 minutes (0.25 hours) per response, resulting in 14 burden hours. This change to the burden reflects an increase of 56 total annual responses and 14 total annual burden hours for States agencies.

• Review institution budgets (7 CFR 226.7(g)): Under this reporting requirement, 56 State agencies will each review 390 institution budgets. Thus, the information collection activities associated with this requirement result in 21,840 responses for State agencies. FNS estimates that it takes State agencies approximately 2 hours per response, resulting in 43,680 burden hours. This change to the burden reflects an increase of 21,840 total annual responses and 43,680 total annual burden hours for States agencies.

• Ensure that parents of enrolled children are provided with WIC information (7 CFR 226.15(o)): Under this reporting requirement, 3,257 institutions will each ensure that parents are provided with WIC information. Thus, the information collection activities associated with this requirement result in 3,257 responses for local government agencies. FNS estimates that it takes local government agencies approximately 15 minutes (0.25 hours) per response, resulting in 814 burden hours. This change to the burden reflects an increase of 3,257 total annual responses and 814 total annual burden hours for local government agencies. FNS also estimates that 18,601 institutions will each ensure that parents are provided with WIC information. Thus, the information collection activities associated with this requirement result in 18,601 responses for institutions. FNS estimates that it takes institutions approximately 15 minutes (0.25 hours) per response, resulting in 4,650 burden hours. This change to the burden reflects an increase of 18,601 total annual responses and 4,650 total annual burden hours for institutions.

• Written notification of the right to make announced or unannounced reviews (7 CFR 226.16(d)(4)(vi)): Under this reporting requirement, 3,257 institutions will each provide written notification of the right to make announced or unannounced reviews. Thus, the information collection activities associated with this requirement result in 3,257 responses for local government agencies. FNS estimates that it takes local government agencies approximately 15 minutes (0.25 hours) per response, resulting in 814 burden hours. This change to the burden reflects an increase of 3,257 total annual responses and 814 total annual burden hours for local government agencies. FNS also estimates that 18,601 institutions will each provide written notification of the right to make announced or unannounced reviews. Thus, the information collection activities associated with this requirement result in 18,601 responses for institutions. FNS estimates that it takes institutions approximately 15 minutes (0.25 hours) per response, resulting in 4,650 burden hours. This change to the burden reflects an increase of 18,601 total annual responses and 4,650 total annual burden hours for institutions.

• Notify of an imminent threat to the health or safety of participating children or the public (7 CFR 226.16(d)(4)(viii)): Under this reporting requirement, 814 local government agencies will each discover that 1 facility conduct or conditions pose an imminent threat to the health or safety of participating children or the public. These local government agencies will notify the appropriate State or local licensing or health authorities and take action that is consistent with the recommendations and requirements of those authorities. Thus, the information collection activities associated with this requirement result in 814 responses for local government agencies. FNS estimates that it takes local government agencies approximately 15 minutes (0.25 hours) per response, resulting in 204 burden hours. This change to the burden reflects an increase of 814 total annual responses and 204 total annual burden hours for local government agencies. FNS also estimates that 4,650 institutions will each discover that 1 facility conduct or conditions pose an imminent threat to the health or safety of participating children or the public. These institutions will notify the appropriate State or local licensing or health authorities and take action that is consistent with the recommendations and requirements of those authorities. Thus, the information collection activities associated with this requirement result in 4,650 responses for institutions. FNS estimates that it takes institutions approximately 15 minutes (0.25 hours) per response, resulting in 1,163 burden hours. This change to the burden reflects an increase of 4,650 total annual responses and 1,163 total annual burden hours for institutions.

• Notify a day care home that it has been found to be seriously deficient (7 CFR 226.16(l)(3)(i)): Under this reporting requirement, 83 local government agencies will each notify 1 day care home that it has been found to be seriously deficient. Thus, the information collection activities associated with this requirement result in 83 responses for local government agencies. FNS estimates that it takes local government agencies approximately 15 minutes (0.25 hours) per response, resulting in 21 burden hours. This change to the burden reflects an increase of 83 total annual responses and 21 total annual burden hours for local government agencies. FNS also estimates that 540 institutions will each notify 1 day care home that it has been found to be seriously deficient. Thus, the information collection activities associated with this requirement result in 540 responses for institutions. FNS estimates that it takes institutions approximately 15 minutes (0.25 hours) per response, resulting in 135 burden hours. This change to the burden reflects an increase of 540 total annual responses and 135 total annual burden hours for institutions.

• Suspension of day care home for serious health or safety violations (7 CFR 226.16(1)(4)): Under this reporting requirement, 21 local government agencies will each suspend 1 day care home for serious health or safety violations. In these cases, local government agencies will notify the day care home that its participation has been suspended, that the day care home has been determined seriously deficient, and that the sponsoring organization proposes to terminate the day care home's agreement for cause. In addition, they will provide a copy of the notice to the State agency. Thus, the information collection activities associated with this requirement result in 21 responses for local government agencies. FNS estimates that it takes local government agencies approximately 15 minutes (0.25 hours) per response, resulting in 5 burden hours. This change to the burden reflects an increase of 21 total annual responses and 5 total annual burden hours for local government agencies. FNS also estimates that 135 institutions will each suspend 1 day care home for serious health or safety violations. In these cases, institutions will notify the day care home that its participation has been suspended, that the day care home has been determined seriously deficient, and that the sponsoring organization proposes to terminate the day care home's agreement for cause. In addition, they will provide a copy of the notice to the State agency. Thus, the information collection activities associated with this requirement result in 135 responses for institutions. FNS estimates that it takes institutions approximately 15 minutes (0.25 hours) per response, resulting in 34 burden hours. This change to the burden reflects an increase of 135 total annual responses and 34 total annual burden hours for institutions.

• Application to operate as an at-risk afterschool care center (7 CFR 226.17a(e)): Under this reporting requirement, 564 local government agencies will each make 1 written application to the State agency for an afterschool care program that it wants to operate as an at-risk afterschool care center. Thus, the information collection activities associated with this requirement result in 564 responses for local government agencies. FNS estimates that it takes local government agencies approximately 1 hour per response, resulting in 564 burden hours. This change to the burden reflects an increase of 564 total annual responses and 564 total annual burden hours for local government agencies. FNS also estimates that 3,220 institutions will each make 1 written application to the State agency for an afterschool care program that it wants to operate as an at-risk afterschool care center. Thus, the information collection activities associated with this requirement result in 3,220 responses for institutions. FNS estimates that it takes institutions approximately 1 hour per response, resulting in 3,220 burden hours. This change to the burden reflects an increase of 3,220 total annual responses and 3,220 total annual burden hours for institutions.

• Advise the State agency of any substantive changes to the afterschool care program (7 CFR 226.17a(h)): Under this reporting requirement, 564 local government agencies will advise the State agency of substantive changes to the afterschool care program. Thus, the information collection activities associated with this requirement result in 564 responses for local government agencies. FNS estimates that it takes local government agencies approximately 30 minutes (0.5 hours) per response, resulting in 282 burden hours. This change to the burden reflects an increase of 564 total annual responses and 282 total annual burden hours for local government agencies. FNS also estimates that 3,220 institutions will advise the State agency of substantive changes to the afterschool care program. Thus, the information collection activities associated with this requirement result in 3,220 responses for institutions. FNS estimates that it takes institutions approximately 30 minutes (0.5 hours) per response, resulting in 1,610 burden hours. This change to the burden reflects an increase of 3,220 total annual responses and 1,610 total annual burden hours for institutions.

• Distribution of sponsoring organization's notice to parents (7 CFR 226.17(d)): Under this reporting requirement, 69,647 facilities will distribute to parents a copy of the sponsoring organization's notice to parents. Thus, the information collection activities associated with this requirement result in 69,647 responses for facilities. FNS estimates that it takes facilities approximately 15 minutes (0.25 hours) per response, resulting in 17,412 burden hours. This change to the burden reflects an increase of 69,647 total annual responses and 17,412 total annual burden hours for facilities.

• Inform sponsoring organization about any change in the number of children enrolled for care or in its licensing or approval status (7 CFR 226.18(a)(5)): Under this reporting requirement, 89,843 facilities will each inform the sponsoring organization about 5 changes in the number of children enrolled for care or in its licensing or approval status. Thus, the information collection activities associated with this requirement result in 89,843 responses for facilities. FNS estimates that it takes facilities approximately 15 minutes (0.25 hours) per response, resulting in 112,304 burden hours. This change to the burden reflects an increase of 89,843 total annual responses and 112,304 total annual burden hours for facilities.

• Notify sponsoring organization about being out of their home during the meal service period (7 CFR 226.18(a)(14)): Under this reporting requirement, 89,843 facilities will each notify their sponsoring organization 5 times that they are planning to be out of their home during the meal service period. Thus, the information collection activities associated with this requirement result in 89,843 responses for facilities. FNS estimates that it takes facilities approximately 15 minutes (0.25 hours) per response, resulting in 112,304 burden hours. This change to the burden reflects an increase of 89,843 total annual responses and 112,304 total annual burden hours for facilities.

• Establish and maintain Program procedures (7 CFR 226.6(b), 226.6(d), 226.6(m)(5), 226.7(h), 226.7(i), 226.7(k), 226.7(l), and 226.8): Under these recordkeeping requirements, 56 State agencies will each establish and maintain Program procedures, such as procedures to determine the eligibility of institutions, to annually review information submitted by institutions, and to audit institutions. Thus, the information collection activities associated with these requirements result in 56 responses for State agencies. FNS estimates that it takes State agencies approximately 16 hours per response, resulting in 896 burden hours. This change to the burden reflects an increase of 56 total annual responses and 896 total annual burden hours for State agencies.

• Establish and maintain an acceptable financial management system (7 CFR 226.7(b) and 226.7(m)): Under these recordkeeping requirements, 56 State agencies will each establish and maintain an acceptable financial management system, adhere to financial management standards and otherwise carry out financial management policies in accordance with 2 CFR part 200, subpart D and USDA implementing regulations 2 CFR part 400, part 415, and part 416, as applicable; and FNS guidance to identify allowable Program costs and set standards for institutional recordkeeping and reporting. Thus, the information collection activities associated with these requirements result in 56 responses for State agencies. FNS estimates that it takes State agencies approximately 80 hours per response, resulting in 4,480 burden hours. This change to the burden reflects an increase of 56 total annual responses and 4,480 total annual burden hours for State agencies.

After incorporating the above revisions, the estimated total number of burden hours increased by more than 10,000 hours, when compared to the burden hours included in the first Federal Register Notice. As a result, FNS is publishing this second Federal Register Notice.

The previously approved ICR OMB inventory for this collection included reporting and recordkeeping burden that consisted of 2,481,136 hours. As explained above, due to a combination of decreased respondents, adjustments to the estimated average number of hours per response for certain activities, and additional reporting, recordkeeping, and public disclosure requirements, program burden increased from 2,481,136 hours to 4,213,209 hours. The recordkeeping burden decreased from 610,724 hours to 566,012 hours. In contrast, the reporting burden increased from 1,870,412 hours to 3,644,458 hours, and the public disclosure burden increased from zero hours to 2,740 hours. The average burden per response and the annual burden hours for reporting and recordkeeping are explained below and summarized in the charts that follow.

Affected Public: State, Local, and Tribal Government; Business or Other for Profit; Not for Profit; and Individual/Households. Respondent groups identified include: (1) State agencies that administer the CACFP in their State; (2) local government agencies that are CACFP sponsoring organizations; (3) institutions (i.e., a sponsoring organization, child care center, at-risk afterschool care center, outside-school-hours care center, emergency shelter, or adult day care center) that enter into agreements with the State agency to assume responsibility for CACFP operations; (4) facilities (i.e., adult or child care centers or family day care homes) that administer the CACFP under the auspices of a sponsoring organization; and (5) households that are CACFP participants.

Estimated Number of Respondents: The total estimated number of respondents is 3,794,949. This includes: (1) 56 State agencies, (2) 3,791 local government agencies, (3) 21,650 institutions, (4) 159,490 facilities (includes 89,843 family day care homes and 69,647 sponsored center facilities), and (5) 3,599,004 households.

Estimated Number of Responses per Respondent: The overall frequency of responses across the entire information collection is 4.272 responses per respondent. The estimated number of responses per respondent in this collection ranges from 3.254 to 1,496 for the reporting burden and from 3 to 28 for the recordkeeping burden. The estimated number of responses per respondent in this collection is 1 for the public disclosure burden.

Estimated Total Annual Responses: 16,213,093.

Estimated Time per Response: The estimated time of response varies from 5 minutes (0.0835 hours) to 5.446 hours depending on the respondent group and the type of burden, as shown in the tables below. The average estimated time per response for all respondents across the entire collection is 0.260 hours.

Estimated Total Annual Burden on Respondents: 4,213,209 hours. See the table below for estimated total annual burden for each type of respondent.

Current OMB Inventory: 2,481,136 hours.

Difference (Burden Revisions Requested): 1,732,073 hours.

Respondent | Estimated number respondent | Responses annually per respondent | Total annual responses | Estimated avg. # of hours per response | Estimated total hours
Reporting Burden
State/Local/Tribal Government Level:
State Agencies | 56 | 1,496 | 83,785 | 2.448 | 205,131
Local Government Agencies | 3,791 | 33.812 | 128,182 | 1.710 | 219,226
Business Level:
Institutions | 21,650 | 33.834 | 732,516 | 1.709 | 1,252,114
Facilities | 159,490 | 18.070 | 2,881,957 | 0.344 | 990,018
Household Level:
Households | 3,599,004 | 3.254 | 11,712,188 | 0.0835 | 977,968
Total Estimated Reporting Burden | 3,783,991 | 4.106 | 15,538,627.720 | 0.235 | 3,644,457.867
Recordkeeping Burden
State/Local/Tribal Government Level:
State Agencies | 56 | 28.000 | 1,568 | 5.446 | 8,540
Local Government Agencies | 3,791 | 6.700 | 25,400 | 0.462 | 11,724
Business Level:
Institutions | 21,650 | 7.301 | 158,069 | 0.426 | 67,278
Facilities | 159,490 | 3.000 | 478,470 | 1.000 | 478,470
Total Estimated Recordkeeping Burden | 184,987 | 3.587 | 663,507.000 | 0.853 | 566,011.650
Public Disclosure Burden
State/Local/Tribal Government Level:
State Agencies | 28 | 1.000 | 28 | 0.250 | 7
Local Government Agencies | 1,629 | 1.000 | 1,629 | 0.250 | 407
Business Level:
Institutions | 9,301 | 1.000 | 9,301 | 0.250 | 2,325
Total Estimated Public Disclosure Burden | 10,958 | 1.000 | 10,958.000 | 0.250 | 2,739.500
Total of Reporting, Recordkeeping, and Public Disclosure
Total | 3,794,949 | 4.272 | 16,213,092.720 | 0.260 | 4,213,209.017

Cynthia Long,
Acting Administrator, Food and Nutrition Service.

[FR Doc. 2021-06177 Filed 3-24-21; 8:45 am]

BILLING CODE 3410-30-P